DEPARTMENT OF ENERGY

Federal Energy Regulatory Commission

Combined Notice of Filings #1

May 7, 2009.

Take notice that the Commission received the following exempt wholesale generator filings:

Docket Numbers: EG09-39-000.

Applicants: EC&R Papalote Creek I, LLC.

Description: Self Certification Notice of Exempt Wholesale Generator Status of EC&R Papalote Creek I, LLC.

Filed Date: 05/04/2009.

Accession Number: 20090504-5137.

Comment Date: 5 p.m. Eastern Time on Tuesday, May 26, 2009.

Docket Numbers: EG09-40-000.

Applicants: Stony Creek Wind Farm, LLC.

Description: Self Certification Notice of Exempt Wholesale Generator Status of Stony Creek Wind Farm, LLC.

Filed Date: 05/04/2009.

Accession Number: 20090504-5138.

Comment Date: 5 p.m. Eastern Time on Tuesday, May 26, 2009.

Take notice that the Commission received the following electric rate filings:

Docket Numbers: ER96-780-020.

Applicants: Southern Company Services, Inc.

Description: Alabama Power Co et al. submits additional information in compliance with FERC's 4/9/09 issuance.

Filed Date: 04/30/2009.

Accession Number: 20090504-0053.

Comment Date: 5 p.m. Eastern Time on Thursday, May 21, 2009.

Docket Numbers: ER97-4314-011; ER01-2783-008; ER05-20-003.

Applicants: Old Dominion Electric Cooperative, Inc.; TEC Trading, Inc.; New Dominion Energy Cooperative.

Description: Old Dominion Electric Cooperative et al. submits amendment to the updated maker power analysis and compliance filings.

Filed Date: 05/04/2009.

Accession Number: 20090506-0091.

Comment Date: 5 p.m. Eastern Time on Tuesday, May 26, 2009.

Docket Numbers: ER91-569-043; ER01-666-011; ER02-862-011.

Applicants: Entergy Services, Inc.; EWO Marketing, LP; Entergy Power Ventures, LP.

Description: Entergy Affiliates submits response to the April 9 Letter, which constitutes an amendment to the updated market power analysis originally filed on 8/29/08.

Filed Date: 05/04/2009.

Accession Number: 20090506-0100.

Comment Date: 5 p.m. Eastern Time on Tuesday, May 26, 2009.

Docket Numbers: ER99-2284-009; ER99-1773-009; ER99-1761-005; ER00-1026-016; ER01-1315-005; ER01-2401-011; ER98-2184-014; ER98-2186-015; ER00-33-011; ER05-442-003; ER98-2185-014; ER99-1228-007; ER01-751-010; ER97-2904-008.

Applicants: AEE 2 LLC; AES Creative Resources LP; AES Eastern Energy, LP; Indianapolis Power & Light Company; AES Ironwood LLC; AES Red Oak LLC; AES Huntington Beach, LLC; AES Redondo Beach, LLC; AES Placerita Inc.; Condon Wind Power, LLC; AES Alamitos, LLC; Storm Lake Power Partners II LLC; Mountain View Power Partners, LLC; Lake Benton Power Partners LLC.

Description: Condon Wind Power, LLC et al. submits Supplementary Information.

Filed Date: 05/01/2009.

Accession Number: 20090505-0040.

Comment Date: 5 p.m. Eastern Time on Friday, May 22, 2009.

Docket Numbers: ER99-2369-006.

Applicants: Alliance for Cooperative Energy Services.

Description: Notice of Non-Material Change in Status of ACES Power Marketing.

Filed Date: 05/04/2009.

Accession Number: 20090504-5084.

Comment Date: 5 p.m. Eastern Time on Tuesday, May 26, 2009.

Docket Numbers: ER03-1284-006; ER05-1202-006; ER05-1262-021; ER06-1093-017; ER06-1122-005; ER07-342-004; ER07-407-005; ER07-522-005; ER08-1111-003; ER08-1225-003; ER08-1226-003; ER08-1227-002; ER08-1228-002.

Applicants: High Trail Wind Farm, LLC, Blue Canyon Windpower II LLC, Old Trail Wind Farm, LLC, Telocaset Wind Power Partners, LLC, High Prairie Wind Farm II, LLC, Cloud County Wind Farm, LLC, Pioneer Prairie Wind Farm I, LLC, Arlington Wind Power Project LLC, Flat Rock Windpower LLC, Flat Rock Windpower II LLC, Rail Splitter Wind Farm, LLC, Blue Canyon Windpower LLC, Wheat Field Wind Power Project LLC.

Description: Notice of Non-Material Change in Status of Arlington Wind Power Project LLC, et. al.

Filed Date: 05/01/2009.

Accession Number: 20090501-5261.

Comment Date: 5 p.m. Eastern Time on Friday, May 22, 2009.

Docket Numbers: ER04-449-019.

Applicants: New York Independent System Operator, Inc.

Description: New York Independent System Operator, Inc et al. submits amendments to the Open Access Transmission Tariff and the Market Administration and Control Area Services Tariff.

Filed Date: 05/04/2009.

Accession Number: 20090505-0193.

Comment Date: 5 p.m. Eastern Time on Monday, May 18, 2009.

Docket Numbers: ER06-739-021; ER06-738-021; ER03-983-020; ER07-501-020; ER07-758-016; ER02-537-024; ER08-649-013.

Applicants: East Coast Power Linden Holding, LLC; Cogen Technologies Linden Venture, LP; Fox Energy Company LLC; Birchwood Power Partners, LP; Inland Empire Energy Center, LLC; Shady Hills Power Company, LLC; EFS Parlin Holdings LLC.

Description: Notice of Non-Material Change in Status—GE Companies re “Noble II” Passive Interest Consummation.

Filed Date: 05/05/2009.

Accession Number: 20090505-5045.

Comment Date: 5 p.m. Eastern Time on Tuesday, May 26, 2009.

Docket Numbers: ER06-1409-004; ER06-1407-004; ER06-1408-004; ER06-1413-004; ER08-1443-002; ER08-577-005; ER08-578-005; ER08-579-006.

Applicants: Noble Altona Windpark, LLC; Noble Bliss Windpark, LLC; Noble Ellenberg Windpark, LLC; Noble Clinton Windpark I, LLC; Noble Great Plains Windpark, LLC; Noble Chateaugay Windpark, LLC; Noble Wethersfield Windpark, LLC.

Description: Notice of Non-Material Change in Status of Noble Environmental Power, LLC.

Filed Date: 05/04/2009.

Accession Number: 20090504-5139.

Comment Date: 5 p.m. Eastern Time on Tuesday, May 26, 2009.

Docket Numbers: ER07-1356-010; ER07-1358-009; ER07-1112-008; ER07-1113-008; ER07-1116-007; ER07-1117-009; ER07-1118-009; ER00-2885-024; ER01-2765-023; ER09-609-001; ER05-1232-018; ER09-335-004; ER02-1582-021; ER02-2102-023; ER03-1283-018.

Applicants: J.P. Morgan Ventures Energy Corporation, BE Allegheny LLC, BE CA LLC, BE Ironwood LLC, BE KJ LLC, BE Rayle LLC, BE Alabama LLC, BE Louisiana LLC, Cedar Brakes I, LLC, Mohawk River Funding IV, LLC, Utility Contract Funding, LLC, Vineland Energy LLC, Central Power & Lime LLC, Cedar Brakes II, LLC.

Description: Notice of non-material change in status of J.P. Morgan Ventures Energy Corporation, et al.

Filed Date: 05/01/2009.

Accession Number: 20090501-5266.

Comment Date: 5 p.m. Eastern Time on Friday, May 22, 2009.

Docket Numbers: ER08-1203-001; EL08-85-001.

Applicants: California Independent System Operator Corporation.

Description: California Independent System Operator Corporation submits Substitute First Revised Service Agreement No 660.

Filed Date: 05/01/2009.

Accession Number: 20090504-0188.

Comment Date: 5 p.m. Eastern Time on Friday, May 22, 2009.

Docket Numbers: ER09-412-003.

Applicants: PJM Interconnection LLC.

Description: PJM Interconnection, LLC submits revisions to their Open Access Transmission Tariff and Reliability Assurance Agreement among Load Serving Entities in the PJM Region etc. pursuant to FERC's 3/26/09 order.

Filed Date: 04/27/2009.

Accession Number: 20090430-0240.

Comment Date: 5 p.m. Eastern Time on Monday, May 18, 2009.

Docket Numbers: ER09-497-002.

Applicants: PJM Interconnection LLC.

Description: PJM Interconnection, LLC submits compliance filing.

Filed Date: 05/04/2009.

Accession Number: 20090505-0103.

Comment Date: 5 p.m. Eastern Time on Tuesday, May 26, 2009.

Docket Numbers: ER09-644-001.

Applicants: South Carolina Electric & Gas Company.

Description: South Carolina Electric & Gas Company submits revisions to its Order No 676-C compliance filing.

Filed Date: 05/04/2009.

Accession Number: 20090505-0102.

Comment Date: 5 p.m. Eastern Time on Tuesday, May 26, 2009.

Docket Numbers: ER09-650-002.

Applicants: PJM Interconnection, LLC.

Description: PJM Interconnection, LLC submits the attached revised PJM Open Access Transmission Tariff sheets to comply with the directives in the FERC 4/3/09 Order Accepting Proposed Tariff Revisions Subject to Conditions.

Filed Date: 05/04/2009.

Accession Number: 20090505-0109.

Comment Date: 5 p.m. Eastern Time on Tuesday, May 26, 2009.

Docket Numbers: ER09-769-001.

Applicants: Midwest Independent Transmission System Operator, Inc.

Description: Midwest Independent Transmission System Operator, Inc. submits an amendment to its 2/25/09 proposed regarding revisions to the Midwest ISO Open Access Transmission Energy, etc.

Filed Date: 05/04/2009.

Accession Number: 20090505-0104.

Comment Date: 5 p.m. Eastern Time on Tuesday, May 26, 2009.

Docket Numbers: ER09-808-001.

Applicants: Reliant Energy Power Supply, LLC.

Description: Reliant Energy Power Supply, LLC submits revised cancelled Third Revised Sheet 1, FERC Electric Tariff, Original Volume 1 reflecting 5/1/09 as the effective date etc.

Filed Date: 05/04/2009.

Accession Number: 20090505-0125.

Comment Date: 5 p.m. Eastern Time on Tuesday, May 26, 2009.

Docket Numbers: ER09-831-001.

Applicants: New York Independent System Operator, Inc.

Description: New York Independent System Operator, Inc. et al. submits amended and restated executed large generator standard large generator interconnection agreement among the NYISO etc.

Filed Date: 05/05/2009.

Accession Number: 20090506-0170.

Comment Date: 5 p.m. Eastern Time on Tuesday, May 26, 2009.

Docket Numbers: ER09-1063-001.

Applicants: PJM Interconnection, LLC.

Description: PJM Interconnection, LLC submits substitute sheets which contains the correct proposed Tariff and Operating revisions.

Filed Date: 05/01/2009.

Accession Number: 20090504-0190.

Comment Date: 5 p.m. Eastern Time on Wednesday, May 27, 2009.

Docket Numbers: ER09-1075-000.

Applicants: Falcon Energy LLC.

Description: Falcon Energy, LLC submits an Application for Market-Based Rate Authorization and Request for Waivers and Blanket Authorizations and Request for Expedited Treatment of Falcon Energy, LLC.

Filed Date: 05/04/2009.

Accession Number: 20090505-0105.

Comment Date: 5 p.m. Eastern Time on Tuesday, May 26, 2009.

Docket Numbers: ER09-1077-000.

Applicants: Southern California Edison Company.

Description: Southern California Edison Companys submits Seventh Revised Sheet 54 et al. to its FERC Electric Rate Schedule 424 to be effective 7/1/09.

Filed Date: 05/01/2009.

Accession Number: 20090504-0136.

Comment Date: 5 p.m. Eastern Time on Friday, May 22, 2009.

Docket Numbers: ER09-1093-000.

Applicants: Florida Power Corporation.

Description: Florida Power Corporation et al submits its annual cost factor updates that implement the contractually authorized changes in certain cost components for interchange services provided by FPC.

Filed Date: 05/01/2009.

Accession Number: 20090505-0128.

Comment Date: 5 p.m. Eastern Time on Friday, May 22, 2009.

Docket Numbers: ER09-1094-000.

Applicants: Midwest Independent Transmission System Operator, Inc.

Description: Midwest Independent Transmission System Operator, Inc. submits its Requests to Terminate the Market Participant Agreement between the Midwest and Excelsior Ltd and Notice Regarding Continuing and Anticipated Default.

Filed Date: 05/04/2009.

Accession Number: 20090505-0106.

Comment Date: 5 p.m. Eastern Time on Tuesday, May 26, 2009.

Docket Numbers: ER09-1096-000.

Applicants: Kentucky Utilities Company.

Description: Kentucky Utilities Co. submits its annual update to the formula rates it charges the Kentucky Municipals for wholesale electric service.

Filed Date: 05/01/2009.

Accession Number: 20090505-0136.

Comment Date: 5 p.m. Eastern Time on Friday, May 22, 2009.

Take notice that the Commission received the following electric securities filings:

Docket Numbers: ES09-31-000.

Applicants: Entergy Texas, Inc.

Description: Application of Entergy Texas, Inc. for Authorization Under FPA Section 204.

Filed Date: 04/30/2009.

Accession Number: 20090430-5303.

Comment Date: 5 p.m. Eastern Time on Thursday, May 21, 2009.

Docket Numbers: ES09-32-000.

Applicants: System Energy Resources, Inc.

Description: Application of System Energy Resources, Inc., for Authorization Under FPA Section 204.

Filed Date: 04/30/2009.

Accession Number: 20090430-5305.

Comment Date: 5 p.m. Eastern Time on Thursday, May 21, 2009.

Docket Numbers: ES09-33-000.

Applicants: Northern Indiana Public Service Company.

Description: Application of Northern Indiana Public Service Company under New Docket for authorization under FPA Section 204 to Issue Short-Term Debt and submit Revised Exhibits of on 5/4/09.

Filed Date: 04/30/2009; 05/04/2009.

Accession Number: 20090430-5466; 20090504-5140.

Comment Date: 5 p.m. Eastern Time on Thursday, May 21, 2009.

Docket Numbers: ES09-34-000.

Applicants: ISO New England Inc.

Description: ISO New England Inc. Submits Application under Section 204 of the Federal Power Act For An Order Authorizing the Issuance of Securities.

Filed Date: 04/30/2009.

Accession Number: 20090504-0152.

Comment Date: 5 p.m. Eastern Time on Thursday, May 21, 2009.

Docket Numbers: ES09-35-000.

Applicants: MDU Resources Group, Inc.

Description: Application of MDU Resources Group, Inc for authority to issue securities.

Filed Date: 04/30/2009.

Accession Number: 20090504-0033.

Comment Date: 5 p.m. Eastern Time on Thursday, May 21, 2009.

Take notice that the Commission received the following open access transmission tariff filings:

Docket Numbers: OA08-68-002; OA08-138-001.

Applicants: Cleco Power LLC.

Description: Cleco Power LLC Filing to Comply with April 1, 2009 Order.

Filed Date: 05/01/2009.

Accession Number: 20090501-5269.

Comment Date: 5 p.m. Eastern Time on Friday, May 22, 2009.

Docket Numbers: OA08-145-001.

Applicants: NewCorp Resources Electric Cooperative.

Description: Supplement to Order No. 890-B Compliance Filing under OA08-145.

Filed Date: 05/04/2009.

Accession Number: 20090504-5136.

Comment Date: 5 p.m. Eastern Time on Tuesday, May 26, 2009.

Docket Numbers: OA09-17-001.

Applicants: California Independent System Operator Corp.

Description: California Independent System Operator Corp submits Appendix L, Methodology to Assess Available Transfer Capability under OA09-17.

Filed Date: 04/30/2009.

Accession Number: 20090504-0151.

Comment Date: 5 p.m. Eastern Time on Thursday, May 21, 2009.

Docket Numbers: OA09-27-000.

Applicants: Entergy Services, Inc.

Description: Entergy Services, Inc submits revised tariff sheets for the currently effective version of Attachment C to Entergy's Open Access Transmission Tariff under OA09-27.

Filed Date: 05/05/2009.

Accession Number: 20090506-0177.

Comment Date: 5 p.m. Eastern Time on Tuesday, May 26, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-11440 Filed 5-15-09; 8:45 am]

BILLING CODE 6717-01-P